DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Drug Abuse Warning Network (OMB number 0930-0078, revision—The Drug Abuse Warning Network (DAWN) is an on-going data system that currently collects information on drug abuse-related medical emergencies and deaths as reported from about 466 hospitals and 137 medical examiners/coroners (ME/C) nationwide. DAWN provides national and metropolitan estimated of substances involved with drug-related ED visits; disseminates information about substances involved in deaths investigated by participating ME/Cs; provides a means for monitoring drug abuse patterns, trends, and the emergence of new substances; assesses health hazards associated with drug use; and generates information for national and local drug abuse policy and program planning. DAWN data are used by Federal, State, and local agencies, as well as universities, pharmaceutical companies, and the press.

The current emergency department (ED) sample supports estimates for the coterminous U.S. and 21 major metropolitan areas. Beginning in 2003, the DAWN case definition will be changed to obtain more consistent and reliable data on drug abuse cases and also will capture additional cases where drug use/misuse led to ED visits or deaths for conditions such as adverse drug reactions, underage drinking and malicious poisonings. To achieve better geographic and population coverage, the ED sample will be expanded to support estimates for the full U.S. and 48 metropolitan areas. By the end of 2005, the sample will include approximately 841 hospitals. To achieve complete coverage, approximately 66 non-participating ME/C jurisdictions in the 48 metropolitan areas targeted for the ED expansion will be added in lieu of a sample. Facilities (EDs and ME/Cs) will continue to use the current forms in early 2003 to complete reporting on events occurring through December 2002, but will use the revised forms for all events occurring from 1/1/2003 forward.

Total Reporting Burden for DAWN: Closeout 2002 ¹
| Number of respondent facilities | Estimated number of responses per respondent | Estimated time per response | Gross burden hours | IR² reporting hours | Total adjusted burden hours
EMERGENCY DEPARTMENTS
Current Forms | 166 | 36 | 9 min. | 896 | 448 | 448
Current eHERS ³ | 300 | 36 | 9min (.15 hr) | 1,620 | 810 | 810
ED Logs | 166 | 16 | 2 min (.03 hr) | 88 | 44 | 44
Subtotal |  |  |  |  |  | 1,302
MEDICAL EXAMINERS/CORONERS
Current Forms | 20 | 70 | 15 min (.25 hr) | 350 | 175 | 175
Current eMERS ⁴ | 119 | 70 | 15 min (.25 hr) | 2,082 | 1,041 | 1,041
ME Logs | 20 | 40 | 2 min (.03 hr) | 26 | 13 | 13
Subtotal |  |  |  |  |  | 1,229
Total |  |  |  |  |  | 2,531
¹ Number of respondents and respondent burden from December 1, 2002 through March 31, 2003 (EDs) and December 1, 2002 through September 30, 2003 (ME/Cs), using the current reporting forms.
² There is no burden associated with reporting by Independent Reporters (IRs), so these hours are not included in Total Adjusted Burden. Half (50 percent) of all respondents are Independent Reporters.
³ eHERS is the electronic Hospital Emergency Reporting System.
⁴ eMERS is the electronic Medical Examiner Reporting System.

Total Reporting Burden for DAWN: January 1, 2003-November 30, 2005 ¹
| Number of respondent facilities | Estimated number of responses per respondent | Estimated time per response | Gross burden hours | IR ² reporting hours | Total adjusted burden hours
EMERGENCY DEPARTMENTS
Revised ³ Forms | 100 | 354 | 12 min (.20 hr) | 7,080 | 3,540 | 3,540
Revised eHERS ⁴ | 786 | 1,596 | 12 min (.20 hr) | 250,891 | 125,446 | 125,445
Subtotal |  |  |  |  |  | 128,985
MEDICAL EXAMINERS/CORONERS
Revised ³ Forms | 20 | 60 | 15 min (.25 hr) | 300 | 150 | 150
Revised eMERS ⁵ | 259 | 264 | 15 min (.25 hr) | 17,094 | 8,547 | 8,547
Subtotal |  |  |  |  |  | 8,697
Total |  |  |  |  |  | 137,682
¹ Number of respondents and respondent burden shown as totals from January 1, 2003 through November 30, 2005, using the revised reporting forms.
² There is no burden associated with reporting by Independent Reporters (IRs), so these hours are not included in Total Adjusted Burden. Half (50 percent) of all respondents are Independent Reporters.
³ Burden associated with transmittal forms is included in the overall burden associated with identifying and reporting a DAWN case. Transmittal forms are tally sheets used as part of the reporting process, and burden cannot be segregated from completing episode forms.
⁴ eHERS is the electronic Hospital Emergency Reporting System.
⁵ eMERS is the electronic Medical Examiner Reporting System.

Total and Annualized Burden, Entire Clearance Period: December 1, 2003-November 30, 2005
| Total adjusted burden hours
Emergency Departments, Total Burden | 130,287
Medical Examiners/Coroners, Total Burden | 9,926
Total Burden (ED and ME/C) | 140,213
Annualized Burden | 46,738

Written comments and recommendations concerning the proposed information collection should be sent within 30 days of this notice to: Allison Herron Eydt, Human Resources and Housing Branch, Office of Management and Budget, New Executive Office Building, Room 10235, Washington, DC 20503.

Dated: October 1, 2002.
Richard Kopanda,
Executive Officer, SAMHSA.

[FR Doc. 02-25512 Filed 10-7-02; 8:45 am]

BILLING CODE 4162-20-M